NUCLEAR REGULATORY COMMISSION

[Docket No. 50-346]

FirstEnergy Nuclear Operating Company and FirstEnergy Nuclear Generation Corp.; Notice of Withdrawal of Application for Amendment to Facility Operating License

The U.S. Nuclear Regulatory Commission (the Commission) has granted the request of FirstEnergy Nuclear Operating Company and FirstEnergy Nuclear Generation Corp. (FENOC) to withdraw its May 22, 2005, application for proposed amendment to Facility Operating License No. NPF-3 for the Davis-Besse Nuclear Power Station (DBNPS), Unit 1, located in Ottawa County.

The proposed amendment would have revised the technical specifications pertaining to a qualified alternate repair criteria for axial tube end cracking indications in the DBNPS once through steam generator tubes. Specifically, the proposed amendment would revise the TS surveillance requirements for the steam generator inservice inspection to include tube end cracking alternate repair criteria.

The Commission had previously issued a Notice of Consideration of Issuance of Amendment published in the Federal Register on July 5, 2005 (70 FR 38720). However, by letter dated February 16, 2006, in response to Generic Letter 2006-01, “Steam Generator Tube Integrity and Associated Technical Specifications,” FENOC committed to submit a license amendment application by May 31, 2006, proposing to amend the DBNPS TS to be consistent with TS Task Force (TSTF)-449, “Steam Generator Tube Integrity,” Revision 4. Since this new license application will be incompatible with the changes proposed in the earlier license amendment application, by letter dated April 20, 2006, FENOC withdrew the May 22, 2005, amendment request. FENOC plans to resubmit the license amendment application at a later date.

For further details with respect to this action, see the application for amendment dated May 22, 2005, and the licensees' letter dated April 20, 2006, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the Internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 25th day of May 2006.
For the Nuclear Regulatory Commission.
Stephen J. Campbell,
Project Manager, Plant Licensing Branch III-2, Division of Operating Reactor Licensing, Office of Nuclear Reactor Regulation.

[FR Doc. E6-8581 Filed 6-1-06; 8:45 am]

BILLING CODE 7590-01-P